INTERNATIONAL TRADE COMMISSION

[Investigation No. 337-TA-784]

In the Matter of Certain Light-Emitting Diodes and Products Containing Same; Notice of Commission Determination Not To Review an Initial Determination Granting Complainant's Motion To Amend the Complaint and Notice of Investigation To Reflect a Corporate Name Change

AGENCY: U.S. International Trade Commission.

ACTION: Notice.

SUMMARY: Notice is hereby given that the U.S. International Trade Commission has determined not to review an initial determination (“ID”) (Order No. 4) issued by the presiding administrative law judge (“ALJ”) granting complainant's motion to amend the complaint and notice of investigation to reflect a corporate name change in the above-referenced investigation.

FOR FURTHER INFORMATION CONTACT: Jia Chen, Office of the General Counsel, U.S. International Trade Commission, 500 E Street, SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 11, 2011, based on a complaint filed by OSRAM GmbH of Munich, Germany. 76 FR 40745 (Jul. 11, 2011). The complaint alleged violations of section 337 of the Tariff Act of 1930, as amended, 19 U.S.C. 1337, in the importation into the United States, the sale for importation, and the sale within the United States after importation of certain light-emitting diodes and products containing the same by reason of infringement of various claims of United States Patent Nos. 6,812,500; 7,078,732; 7,126,162; 7,345,317; 7,629,621; 6,459,130; 6,927,469; 7,199,454; and 7,427,806. The respondents named in the Commission's notice of investigation are LG Electronics, Inc. and LG Innotek Co., Ltd., both of Seoul, South Korea; LG Electronics U.S.A., Inc. of Englewood Cliffs, New Jersey; and LG Innotek U.S.A., Inc. of San Diego, California.

On August 31, 2011, complainant moved to amend the complaint and notice of investigation to reflect a recent change of its corporate name from OSRAM GmbH to OSRAM AG. According to complainant, good cause exists to permit the amendment and no party will be prejudiced. No responses to the motion were filed. On September 2, 2011, the ALJ issued the subject ID (Order No. 4). The ALJ explained that Commission Rule 210.14(b)(1) (19 CFR 210.14(b)(1)) provides for amendment of the complaint only by leave of the Commission for good cause, when and upon such conditions as are necessary to avoid prejudicing the public interest and the rights of the parties to the investigation. The ALJ found that good cause exists for the requested amendment and that it is unlikely that the amendment would prejudice the other parties or the public. None of the parties petitioned for review of the ID.

The Commission has determined not to review the subject ID.

The authority for the Commission's determination is contained in section 337 of the Tariff Act of 1930, as amended (19 U.S.C. 1337), and in Part 210 of the Commission's Rules of Practice and Procedure (19 CFR part 210).

By order of the Commission.
Issued: September 22, 2011.
James R. Holbein,
Secretary to the Commission.

[FR Doc. 2011-24862 Filed 9-27-11; 8:45 am]

BILLING CODE 7020-02-P